NATIONAL SCIENCE FOUNDATION

Proposal Review Panel for Computing and Communication Foundations; Notice of Meeting

In accordance with the Federal Advisory Committee Act (Pub., L. 92-463, as amended), the National Science Foundation announces the following meeting:

Name: Proposal Panel Review for Expeditions in Computing (EIC) Program (#1192) Site Visit

Date/Time:

October 26, 2014—6:00 p.m.-9:00 p.m.

October 27, 2014—8:00 a.m.-8:00 p.m.

October 28, 2014—8:30 a.m.-3:00 p.m.

Place: University of Pennsylvania, Philadelphia, Pennsylvania, 19104.

Type of Meeting: Part Open.

Contact Person: Nina Amla, National Science Foundation, 4201 Wilson Boulevard, Room 1115, Arlington, VA 22230. Telephone: (703) 292-8910.

Purpose of Meeting: NSF site visit to assess the progress of the EIC Award: CCF-1138996, “Collaborative Research: Expeditions in Computer Augmented Program Engineering (ExCAPE): Harnessing Synthesis for Software Design” and to provide advise and recommendations concerning further NSF support for the project.

EIC Site Visit AGENDA

Sunday, October 26, 2014

6:00 p.m. to 9:00 p.m.: Closed

Site Team and NSF Staff meets to discuss Site Visit materials, review process and charge.

Monday, October 27, 2014

8:00 a.m. to 1:00 p.m.: Open

Presentations by Awardee Institution, faculty staff and students, to Site Team and NSF Staff.

Discussions and question and answer sessions.

1:00 p.m.-8:00 p.m.: Closed

Draft report on education and research activities.

Tuesday, October 28, 2014

8:30 a.m.-noon: Open

Response presentations by Site Team and NSF Staff Awardee Institution. Discussions and question and answer sessions.

Noon to 3:00 p.m.: Closed

Complete written site visit report with preliminary recommendations.

Reason for Closing: The proposals being reviewed include information of a proprietary or confidential nature, including technical information; financial data, such as salaries; and personal information concerning individuals associated with the proposals. These matters are exempt under 5 U.S.C. 552b(c), (4) and (6) of the Government in the Sunshine Act.

Dated: August 19, 2014.
Crystal Robinson,
Acting Committee Management Officer.

[FR Doc. 2014-20461 Filed 8-29-14; 8:45 am]

BILLING CODE 7555-01-P